DEPARTMENT OF COMMERCE

International Trade Administration

[A-570-826]

Certain Paper Clips From the People's Republic of China: Final Results of Expedited Fourth Sunset Review of Antidumping Duty Order

AGENCY: Enforcement and Compliance, International Trade Administration, Department of Commerce.

SUMMARY: As a result of this sunset review, the Department of Commerce (the Department) finds that revocation of the antidumping duty order on certain paper clips (paper clips) from the People's Republic of China (PRC) would be likely to lead to continuation or recurrence of dumping at the levels identified in the “Final Results of Review” section of this notice.

DATES: Effective September 29, 2016.

FOR FURTHER INFORMATION CONTACT: Maliha Khan, AD/CVD Operations, Office IV, Enforcement and Compliance, International Trade Administration, U.S. Department of Commerce, 14th Street and Constitution Avenue NW., Washington, DC 20230; telephone: (202) 482-0895.

SUPPLEMENTARY INFORMATION: On November 25, 1994, the Department published the notice of the antidumping duty order on paper clips from the PRC.¹ On June 1, 2016, the Department published the notice of initiation of the fourth sunset review of the AD Order, pursuant to section 751(c) of the Tariff Act of 1930, as amended (the Act).² On June 16, 2016, the Department received a notice of intent to participate in this review from ACCO Brands USA LLC (ACCO), a domestic interested party, within the deadline specified in 19 CFR 351.218(d)(1)(i).³ ACCO claimed interested party status under section 771(9)(C) of the Act as a manufacturer in the United States of a domestic like product. On July 1, 2016, the Department received a complete and adequate substantive response from ACCO within 30-day deadline specified in 19 CFR 351.218(d)(3)(i).⁴ The Department received no substantive responses from respondent interested parties. As a result, pursuant to section 751(c)(3)(B) of the Act and 19 CFR 351.218(e)(1)(ii)(C)(2), the Department conducted an expedited (120-day) sunset review of the AD Order.

¹ See Antidumping Duty Order: Certain Paper Clips From the People's Republic of China, 59 FR 60606 (November 25, 1994) (AD Order).

² See Initiation of Five-Year (“Sunset”) Review, 81 FR 34974 (June 1, 2016).

³ See Letter from ACCO to the Department, “Paper Clips from the People's Republic of China: Five-Year (“Sunset”) Review of Antidumping Duty Order (4th Review): Notice of Intent to Participate” (June 16, 2016).

⁴ See Letter from ACCO to the Department, “Paper Clips from the People's Republic of China: Five-Year Review of Antidumping Duty Order (4th Sunset Review), Case No. A-570-826; Substantive Response of ACCO Brands USA LLC” (July 1, 2016).

Scope of the Order

The products covered by the order are certain paper clips, wholly of wire of base metal, whether or not galvanized, whether or not plated with nickel or other base metal (e.g., copper), with a wire diameter between 0.025 inches and 0.075 inches (0.64 to 1.91 millimeters), regardless of physical configuration, except as specifically excluded. The products subject to the order may have a rectangular or ring-like shape and include, but are not limited to, clips commercially referred to as No. 1 clips, No. 3 clips, Jumbo or Giant clips, Gem clips, Frictioned clips, Perfect Gems, Marcel Gems, Universal clips, Nifty clips, Peerless clips, Ring clips, and Glide-On clips. The products subject to the order are currently classifiable under subheading 8305.90.3010 of the Harmonized Tariff Schedule of the United States (HTSUS).

Specifically excluded from the scope of the order are plastic and vinyl covered paper clips, butterfly clips, binder clips, or other paper fasteners that are not made wholly of wire of base metal and are covered under a separate subheading of the HTSUS.

Although the HTSUS subheadings are provided for convenience and customs purposes, the written description of the scope of the order is dispositive.

Analysis of Comments Received

A complete discussion of all issues raised in this review, including the likelihood of continuation or recurrence of dumping in the event of revocation of the AD Order and the magnitude of the margins likely to prevail if the order were revoked, is provided in the accompanying Issues and Decision Memorandum,⁵ which is hereby adopted by this notice. The Issues and Decision Memorandum is a public document and is on file electronically via Enforcement and Compliance's Antidumping and Countervailing Duty Centralized Electronic Service System (ACCESS). ACCESS is available to registered users at http://access.trade.gov and to all parties in the Central Records Unit, room B8024 of the main Department of Commerce building. In addition, a complete version of the Issues and Decision Memorandum can be accessed directly on the Internet at http://enforcement.trade.gov/frn/. The signed Issues and Decision Memorandum and the electronic version of the Issues and Decision Memorandum are identical in content.

⁵ See Memorandum from Christian Marsh, Deputy Assistant Secretary for Antidumping and Countervailing Duty Operations, to Paul Piquado, Assistant Secretary for Enforcement and Compliance, “Issues and Decision Memorandum for the Expedited Sunset Review of the Antidumping Duty Order on Paper Clips from the People's Republic of China,” dated concurrently with this notice (Issues and Decision Memorandum).

Final Results of Sunset Review

Pursuant to sections 751(c)(1) and 752(c)(1) and (3) of the Act, the Department determines that revocation of the AD Order would be likely to lead to continuation or recurrence of dumping, and that the magnitude of the dumping margins likely to prevail would be weighted-average margins up to 126.94 percent.

Notification to Interested Parties

This notice serves as the only reminder to parties subject to administrative protective order (APO) of their responsibility concerning the return or destruction of proprietary information disclosed under APO in accordance with 19 CFR 351.305. Timely written notification of the return or destruction of APO materials, or conversion to judicial protective order, is hereby requested. Failure to comply with the regulations and terms of an APO is a violation which is subject to sanction.

We are issuing and publishing these results and notice in accordance with sections 751(c), 752(c), and 777(i)(1) of the Act, 19 CFR 351.218, and 19 CFR 351.221(c)(5)(ii).

Dated: September 29, 2016.
Paul Piquado,
Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Dumping

2. Magnitude of the Margins Likely To Prevail

VII. Final Results of Sunset Review

VIII. Recommendation

[FR Doc. 2016-24245 Filed 10-5-16; 8:45 am]

BILLING CODE 3510-DS-P